DEPARTMENT OF COMMERCE

Foreign-Trade Zones Board

Order No. 1481

Reorganization/Expansion of Foreign-Trade Zone 148, Knoxville, Tennessee, Area

Pursuant to its authority under the Foreign-Trade Zones Act of June 18, 1934, as amended (19 U.S.C. 81a-81u), the Foreign-Trade Zones Board (the Board) adopts the following Order:

WHEREAS, the Industrial Development Board of Blount County, grantee of Foreign-Trade Zone 148, submitted an application to the Board for authority to reorganize and expand FTZ 148 in the Knoxville, Tennessee, area, adjacent to the Knoxville Customs port of entry (FTZ Docket 12-2006; filed 4/6/2006);

WHEREAS, notice inviting public comment was given in the Federal Register (71 FR 19872, 4/16/2006) and the application has been processed pursuant to the FTZ Act and the Board's regulations; and,

WHEREAS, the Board adopts the findings and recommendations of the examiner's report, and finds that the requirements of the FTZ Act and Board's regulations are satisfied, and that the proposal is in the public interest;

NOW, THEREFORE, the Board hereby orders:

The application to reorganize and expand FTZ 148 is approved, subject to the Act and the Board's regulations, including Section 400.28.

Signed at Washington, DC, this 6th day of October 2006.

Attest:

David M. Spooner,
Assistant Secretary of Commerce for Import Administration,Alternate Chairman Foreign-Trade Zones Board.

Pierre V. Duy,
Acting Executive Secretary.

[FR Doc. E6-17263 Filed 10-16-06; 8:45 am]

BILLING CODE 3510-DS-S